FEDERAL MINE SAFETY AND HEALTH REVIEW COMMISSION

[BAC 6735-01]

Sunshine Act Meeting

March 23, 2017.

TIME AND DATE: 10:00 a.m., Thursday, April 13, 2017.

PLACE: The Richard V. Backley Hearing Room, Room 511N, 1331 Pennsylvania Avenue NW., Washington, DC 20004 (enter from F Street entrance).

STATUS: Open.

MATTERS TO BE CONSIDERED: The Commission will consider and act upon the following in open session: Secretary of Labor v. Arnold Stone, Inc., Docket No. CENT 2016-95-M (Issues include whether the Judge erred in concluding that a violation involving a loader with a defective safety lockout did not result from an unwarrantable failure to comply.)

Any person attending this meeting who requires special accessibility features and/or auxiliary aids, such as sign language interpreters, must inform the Commission in advance of those needs. Subject to 29 CFR 2706.150(a)(3) and § 2706.160(d).

CONTACT PERSON FOR MORE INFO: Emogene Johnson (202) 434-9935/(202) 708-9300 for TDD. Relay/1-800-877-8339 for toll free.

PHONE NUMBER FOR LISTENING TO ARGUMENT: 1-(866) 867-4769; Passcode: 129-339.

Sarah L. Stewart,
Deputy General Counsel.

[FR Doc. 2017-06092 Filed 3-23-17; 4:15 pm]

BILLING CODE 6735-01-P